DEPARTMENT OF THE INTERIOR

Bureau of Land Management

[WY-920-1430-FR; WYW-138016]

Corrected Notice of Realty Action: Recreation and Public Purposes Act Classification of Public Lands in Sweetwater County, WY

AGENCY: Bureau of Land Management, Interior.

ACTION: Notice.

SUMMARY: This notice corrects the legal description of the Notice of Realty Action published on May 23, 2002, which classified land under the Recreation and Public Purposes Act in Sweetwater County for a county jail facility.

FOR FURTHER INFORMATION CONTACT: Tamara Gertsch, Realty Officer, Bureau of Land Management, Wyoming State Office, at (307) 775-6115.

SUPPLEMENTARY INFORMATION: The Notice of Realty Action published on May 23, 2002 (FR 67 36223), had an incomplete legal description. The correct legal description is:

Sixth Principal Meridian, Wyoming

T. 18 N., R. 105 W.,

Sec. 18, lot 7, NE¼SW¼, NW¼SE¼

The land described contains 105.00 acres, more or less.

All other aspects of the notice remain in effect as published.

Dated: June 27, 2008.
Tamara J. Gertsch,
Realty Officer.

[FR Doc. E8-15373 Filed 7-3-08; 8:45 am]

BILLING CODE 4310-22-P